DEPARTMENT OF THE INTERIOR

National Park Service

Notice of Intent to Repatriate Cultural Items: Springfield Science Museum, Springfield, MA: Correction

AGENCY: National Park Service, Interior.

ACTION: Notice.

Notice is here given in accordance with the Native American Graves Protection and Repatriation Act (NAGPRA), 43 CFR 10.8 (f), of the intent to repatriate cultural items in the possession of the Springfield Science Museum, Springfield, MA, that meet the definition of unassociated funerary objects at 25 U.S.C. 3001 (3)(B).

This notice is published as part of the National Park Service’s administrative responsibilities under NAGPRA, 25 U.S.C. 3003 (d)(3). The determinations within this notice are the sole responsibility of the museum, institution, or Federal agency that has control of the cultural items. The National Park Service is not responsible for the determinations within this notice.

This notice and a companion notice of inventory completion correction replace the notice of inventory completion that was published in the Federal Register on April 16, 1996 (FR Doc. 96-9366, page 16643). The two correction notices revise the total number of human remains and funerary objects and provide additional evidence for cultural affiliation. These corrections are necessary as the result of reevaluation of the collection and accompanying documentation that reduces the numbers of cultural items considered culturally affiliated with the Santa Ynez Band of Chumash Mission Indians of the Santa Ynez Reservation, California. The total number of human remains is reduced from a minimum of 2 to 1 individual. The total number of funerary objects is reduced from 200 to 65 associated funerary objects and 39 unassociated funerary objects. The 39 unassociated funerary objects are described in this notice of intent to repatriate correction; the human remains and associated funerary objects are described in the companion notice of inventory completion.

In 1908, Dr. Jacob T. Bowne removed 39 cultural items from burial sites on Santa Cruz Island, Santa Rosa Island, and Goleta, all in Santa Barbara County, CA. The cultural items are 25 shell beads from Santa Cruz Island; 1 lead bullet, 11 leaf shaped stone blades, and 1 shell pendant from Santa Rosa Island; 1 stone tube pipe from Goleta. Dr. Bowne donated these cultural items to the Springfield Science Museum in 1925.

Museum documentation indicates that the cultural items were removed from specific burial sites. Archeological evidence indicates that the sites from which the cultural items were removed were used as burial/funerary areas from the Late Precontact period to the mid-19th century (A.D. 1400 to 1850). Analyses of funerary practices, tools, ornamentation, and funerary objects at various components of the site indicate cultural continuity throughout the Late Precontact period to the mid-19th century. Consultation evidence presented by representatives of the Santa Ynez Band of Chumash Mission Indians of the Santa Ynez Reservation, California indicates that funerary practices, tool manufacture, ornamentation types, and funerary objects are identical to Chumash traditional practices documented in the Historic period. Overall evaluation of the totality of the circumstances and evidence indicates a probable cultural affiliation between the cultural items and several Chumash Indian groups, including the Santa Ynez Band of Chumash Mission Indians of the Santa Ynez Reservation, California and several nonfederally recognized Indian groups.

Officials of the Springfield Science Museum have determined that, pursuant to 25 U.S.C. 3001 (3)(B), the 39 cultural items are reasonably believed to have been placed with or near individual human remains at the time of death or later as part of a death rite or ceremony and are believed, by a preponderance of the evidence, to have been removed from specific burials sites of Native American individuals. Officials of the Springfield Science Museum also have determined that, pursuant to 25 U.S.C. 3001 (2), there is a relationship of shared group identity that can be reasonably traced between the unassociated funerary objects and the Santa Ynez Band of Chumash Mission Indians of the Santa Ynez Reservation, California.

Representatives of any Indian tribe that believes itself to be culturally affiliated with the unassociated funerary objects should contact David Stier, Director, Springfield Science Museum, 236 State Street, Springfield, MA 01103, telephone (413) 263-6800, extension 321, before June 2, 2003. Repatriation of the unassociated funerary objects to the Santa Ynez Band of Chumash Mission Indians of the Santa Ynez Reservation, California may proceed after that date if no additional claimants come forward.

The Springfield Science Museum is responsible for notifying the Santa Ynez Band of Chumash Mission Indians of the Santa Ynez Reservation, California; and Esselin Nation and Ti’at Society/Traditional Council of Pima (two nonfederally recognized Indian groups) that this notice has been published.

Dated: April 8, 2003.
John Robbins,
Assistant Director, Cultural Resources.

[FR Doc. 03-10915 Filed 5-1-03; 8:45 am]

BILLING CODE 4310-70-S